DEPARTMENT OF ENERGY

Federal Energy Regulatory Commission

[Docket No. RP03-576-000]

Southern Natural Gas Company; Notice of Proposed Changes to FERC Gas Tariff

August 29, 2003.

Take notice that on August 25, 2003, Southern Natural Gas Company (Southern), tendered for filing as part of its FERC Gas Tariff, Seventh Revised Volume No. 1, the following revised tariff sheets to become effective October 1, 2003:

Third Revised Sheet No. 101A

Second Revised Sheet No. 101B

Fifth Revised Sheet No. 116

Sixth Revised Sheet No. 117

Southern states that the tariff sheets filed by Southern set forth the terms and conditions under which Southern proposes to replace its first-come, first-served method of awarding primary firm receipt point capacity with a net present value (NPV) method. The NPV method is the same method that Southern uses for awarding available primary firm delivery point and pipeline capacity.

Southern states that it will be more equitable to award all available capacity under the same method. In addition, Southern is shortening the time period for an open season for requests for receipt point or delivery point amendments to be a minimum of 3 business days. Southern's existing open season time tables shall apply to open seasons for generally available capacity or requests for available capacity. Southern also clarifies that for purposes of determining whether a bid has met the reserve price, bids entailing only amendments of points will be granted a value of zero.

Southern also proposes to change its Tariff to allow shippers to amend their primary Receipt Points for a limited consecutive term even when capacity at the Receipt Point is not available for the remainder of the primary term. In the event a Shipper amends its Receipt Point for a limited term, the previous Receipt Point will not revert back unless it was in the path of the amended point. Southern has requested to place the new capacity award methodology into effect on October 1, 2003.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “eLibrary” link.

Comment Date: September 8, 2003.

Magalie R. Salas,
Secretary.

[FR Doc. 03-22729 Filed 9-5-03; 8:45 am]

BILLING CODE 6717-01-P